DEPARTMENT OF ENERGY

Federal Energy Regulatory Commission

[Docket No. RP03-588-000]

Texas Gas Transmission, LLC (formerly) Texas Gas Transmission Corporation; Notice of Proposed Changes in FERC Gas Tariff

September 4, 2003.

Take notice that on August 29, 2003, Texas Gas Transmission, LLC (Texas Gas) tendered for filing as part of its FERC Gas Tariff, Second Revised Volume No. 1, First Revised Sheet No. 36, to become effective November 1, 2003.

Texas Gas states that the tariff sheet is being filed to establish a revised Effective Fuel Retention Percentage (EFRP) under the provisions of Section 16 “Fuel Retention” as found in the General Terms and Conditions of Texas Gas's FERC Gas Tariff, Second Revised Volume No. 1. The revised EFRPs are proposed to be in effect for the annual period November 1, 2003, through October 31, 2004. In general, the overall impact appears to be predominately moderate to significant reductions in the EFRPs as compared to the EFRPs filed on August 30, 2002.

Texas Gas states that copies of the revised tariff sheet are being mailed to all parties on Texas Gas's official service list, to Texas Gas's jurisdictional customers, and to interested state commissions.

Any person desiring to be heard or to protest said filing should file a motion to intervene or a protest with the Federal Energy Regulatory Commission, 888 First Street, NE., Washington, DC 20426, in accordance with Sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: September 10, 2003.

Magalie R. Salas,
Secretary.

[FR Doc. 03-23038 Filed 9-9-03; 8:45 am]

BILLING CODE 6717-01-P